DEPARTMENT OF COMMERCE

National Oceanic and Atmospheric Administration

50 CFR Part 622

[I.D. 071200B]

Gulf of Mexico Fishery Management Council; Public Hearings

AGENCY: National Marine Fisheries Service (NMFS), National Oceanic and Atmospheric Administration (NOAA), Commerce.

ACTION: Notice of public hearings; request for comments.

SUMMARY: The Gulf of Mexico Fishery Management Council (Council) will convene public hearings to receive comments on a Draft Fishery Management Plan for the Dolphin and Wahoo Fishery in the Atlantic, Caribbean, and Gulf of Mexico (draft Dolphin/Wahoo FMP).

DATES: The Council will accept written comments on the draft Dolphin/Wahoo FMP until final action is taken. The public hearings will be held in August. See SUPPLEMENTARY INFORMATION for specific dates and times of the public hearings.

ADDRESSES: Written comments should be sent to, and copies of the draft Dolphin/Wahoo FMP are available from, Wayne E. Swingle, Executive Director, Gulf of Mexico Fishery Management Council, 3018 U.S. Highway 301, North, Suite 1000, Tampa, Florida 33619; telephone: 813-228-2815; fax: 813-769-4520. See SUPPLEMENTARY INFORMATION for specific hearing locations.

FOR FURTHER INFORMATION CONTACT: Dr. Richard Leard, Senior Fishery Biologist, Gulf of Mexico Fishery Management Council, 3018 U.S. Highway 301, North, Suite 1000, Tampa, Florida 33619; telephone: 813-228-2815.

SUPPLEMENTARY INFORMATION: The intent of the draft Dolphin/Wahoo FMP is to provide a comprehensive management structure for dolphin and wahoo in the Atlantic, Gulf, and Caribbean exclusive economic zone (EEZ). The draft Dolphin/Wahoo FMP will take a precautionary approach to conserve and manage these fishery resources to maintain both optimum yield in the fishery and current allocations among user groups. The draft Dolphin/Wahoo FMP's first 10 proposed management actions, with options, contain measures that are applicable to the dolphin and wahoo stocks in the jurisdictions of the South Atlantic Fishery Management Council, the Caribbean Fishery Management Council, and the Gulf of Mexico Fishery Management Council. These actions include measures to define the management units; address dealer, vessel, and operator permits; establish data reporting requirements; estimate maximum sustainable yield, optimum yield, and establish overfishing/overfished criteria; and establish a framework procedure that would allow seasonal adjustments to the management structure. Other actions, with options, are separately applicable to each council's area of jurisdiction, and include actions that may be implemented through the framework procedure, (minimum size limits, bag limits, trip limits, and allocations, among others).

Time and Location for Public Hearings

Public hearings for the Dolphin/Wahoo FMP will be held at the following locations and dates from 7 p.m. to 10 p.m.

1. July 31, 2000, Port Aransas Community Center, 408 North Allister, Port Aransas, TX 78373; telephone: 361-749-4111.

2. August 1, 2000, Texas A&M, Auditorium, 200 Seawolf Parkway, Galveston, TX 77553; telephone: 409-740-4416.

3. August 7, 2000, New Orleans Airport Hilton, 901 Airline Drive, Kenner, LA 70062; telephone: 504-469-5000.

4. August 8, 2000, Mississippi Department of Marine Resources, 1141 Bayview Drive, Biloxi, MS 39530; telephone: 228-374-5000.

5. August 9, 2000, Orange Beach Community Center; 27235 Canal Road, Orange Beach, AL 36561; telephone: 334-981-6028.

6. August 10, 2000, National Marine Fisheries Service, 3500 Delwood Beach Road, Panama City, FL 32408; telephone: 850-234-6541.

7. August 14, 2000, City Hall Auditorium, 300 Municipal Drive, Madeira Beach, FL 33708; telephone: 727-391-9951.

8. August 15, 2000, Edison Community College, Corbin Auditorium, Room J-103, 8099 College Parkway, Fort Myers, FL 33919; telephone: 941-489-9412.

9. August 16, 2000, Pier House, 1 Duval Street, Key West, FL 33040; telephone: 305-296-4600.

The Council will also hear public testimony on the draft Dolphin/Wahoo FMP at the September 2000 Council meeting.

Special Accommodations

These meetings are physically accessible to people with disabilities. Requests for sign language interpretation or other auxiliary aids should be directed to Anne Alford at the Council office (see ADDRESSES) by July 24, 2000.

Dated: July 24, 2000.
Bruce Morehead,
Acting Director, Office of Sustainable Fisheries, National Marine Fisheries Service.

[FR Doc. 00-19165 Filed 7-27-00; 8:45 am]

BILLING CODE 3510-22-F